DEPARTMENT OF HEALTH AND HUMAN SERVICES

Administration for Children and Families

Submission for OMB Review; Comment Request

Title: Order/Notice to withhold income for child support.

OMB No.: 0970-0154.

Description: Public Law 104-193, The Personal Responsibility and Work Opportunity Reconciliation Act (PRWORA) of 1996, section 324—Use of Forms in Interstate Enforcement requires the Federal Office of Child Support Enforcement (CSE) agencies and courts/tribunals must use to collect child support payments from an obligor's employer.

The form, which promotes standardization expired 12/31/2000 and we are taking this opportunity to make revisions to reflect the Uniform Interstate Family Support Act (UIFSA) and the mandate the use for IV-D and non IV-D direct withholding cases. The 2-page form provides a detailed legal description of the established order, support amounts, and remittance information an employer needs to withhold payments from obligor who owes child support.

Respondents: State, Local, and Tribal Governments Annual Burden Estimates.

Instrument | Number of respondents | Number of responses per respondent | Average burden hours per response | Total burden hours
Order/Notice | 54 | 1 | .1666 | 9
Estimated Total Annual Burden Hours |  |  |  | 9

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget

Paperwork Reduction Project

725 17th Street, NW

Washington, DC 20503

Attn: Desk Office for ACF

Dated: January 4, 2001.
Bob Sargis,
Reports Clearance Officer.

[FR Doc. 01-634 Filed 1-9-01; 8:45 am]

BILLING CODE 4184-01-M